DEPARTMENT OF LABOR

Employment and Training Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed revision collection of the ETA-9109, Trade Adjustment Assistance Petition Form and its Spanish translation, ETA-9109a, Formulario de Solicitud Ayuda Ajuste Comercial and the associated forms—ETA-9110,Company Endorsement Form for Primary Workers (CEFP); ETA-9111, Company Endorsement Form for Secondary Workers (CEPS); ETA-9112, Customer Questionnaire (CQ); ETA-9113, Supporting Company Request (SCOR); ETA-9114, Supporting Customer Request (SCUR), and ETA-9115, Bid Questionnaire (BQ).

A copy of the proposed information collection request (ICR) can be obtained by contacting the office listed below in the addressee section of this notice.

DATES: Written comments must be submitted to the office listed in the addressee section below on or before September 5, 2003.

ADDRESSES: Erin L. FitzGerald, Program Analyst, Division of Trade Adjustment Assistance, Room C-5311, 200 Constitution Ave., NW., Washington, DC 20210. Phone (202) 693-3506 (this is not a toll-free number), fax (202) 693-3584, e-mail Fitzgerald.Erin@dol.gov.

SUPPLEMENTARY INFORMATION:

I. Background

The Trade Adjustment Assistance (TAA) Reform Act of 2002 (Public Law 107-210) amends the Trade Act of 1974 and consolidates two previously authorized worker adjustment assistance programs, Trade Adjustment Assistance (TAA) and North American Free Trade Agreement-Transitional Adjustment Assistance (NAFTA-TAA) into one TAA program effective November 4, 2002. Section 221(a) of Title II, Chapter 2 of the Trade Act of 1974, as amended by the TAA Reform Act of 2002, authorizes the Secretary of Labor and the Governor of each state to accept petitions for certification of eligibility to apply for adjustment assistance. The petitions may be filed by a group of workers, their certified or recognized union or duly authorized representative, employers of such workers, and one-stop operators or one-stop partners. The ETA Form 9109, Trade Adjustment Assistance Petition Form, and ETA-9109a, its Spanish translation, Formulario de Solicitud Ayuda Ajuste Comercial, establish a format that may be used for filing such petitions. The petition form revises and eliminates ETA Form 9042a and its Spanish translation. The Company Endorsement Form eliminates the need for the ETA-9043A, Confidential Data Request form. The Customer and Bid Questionnaires eliminate the need for the ETA-8562a, Customer Survey.

The collection of information is currently being revised to meet the specifications outlined in the legislation of the TAA Reform Act of 2002. While the premise of data collection for the purpose of certification of trade affected workers has remained the same, the specific statutes have altered the type and degree of data collected.

The information obtained by the use of the Company Endorsement Form, and Customer Questionnaire is used by the investigative workgroup of the Division of Trade Adjustment Assistance (DTAA). The findings present an objective set of facts to the Director of the DTAA, other Employment and Training Administration (ETA) officials and the Secretary of Labor with which to make timely decisions regarding whether imports or shift of production of products like or directly competitive with those produced by the petitioning workers' firm contributed importantly to its sales, production, and employment declines, and in turn, determine whether the petitioning workers meet the statutory criteria for eligibility to apply for TAA.

The TAA Reform Act of 2002 makes provisions for additional types of worker groups who are eligible for benefits. This requires additional forms and revisions to questions to determine whether the applicants can be certified. To this extent the DTAA has created the Company Endorsement Form for Secondary Workers for workers who are applying for Secondary Worker assistance as outlined in the TAA Reform Act of 2002.

The DTAA is streamlining the petition process to decrease the time burden on the petitioner. The streamlining of these forms was necessary in order to allow the U.S. Department of Labor to meet the statutory 40 day timeframe for determination on all petitions. An Internet based option for filing petitions will also be available. The petition form and its associated forms had to be altered to allow for petitioners to submit only the information necessary for certification. The forms will remove the need for the majority of petitioners to supply additional supporting data beyond the completed form. In addition, the new legislation authorizes, and the petition form reflects, a consolidation of the TAA program and NAFTA-TAA program, eliminating duplicitous data requests from the petitioner.

The DTAA will implement a data validation procedure to be used to confirm information obtained in the Company Endorsement Form, and Customer and Bid Questionnaires. The sample, conducted randomly, will be based upon ten percent of all petitions filed to ensure compliance with the regulatory and statutory requirements set forth in the TAA Reform Act of 2002.

The Supporting Company Request and the Supporting Customer Request forms will be used to perform the data validation. This will reduce the overall burden for all respondents. Consequently, ninety percent of companies and customers will submit a significantly reduced Company Endorsement Form, and Customer and Bid Questionnaires.

II. Review Focus

The Department of Labor is particularly interested in comments which:

* evaluate whether the proposed collection of information is necessary for the proper performance of the functions of the agency, including whether the information will have practical utility;

* evaluate the accuracy of the agency's estimate of the burden of the proposed collection of information, including the validity of the methodology and assumptions used;

* enhance the quality, utility, and clarity of the information to be collected; and

* minimize the burden of the collection of information on those who are to respond, including through the use of appropriate automated, electronic, mechanical, or other technological collection techniques or other forms of information technology, e.g., permitting electronic submissions of responses.

III. Current Actions

This is a notice to seek OMB approval of previously approved forms that have been revised to comply with the TAA Reform Act of 2002. Forms previously approved by OMB under control numbers 1205-0342, 1205-0339, and 1205-0190 were allowed to expire 9/30/03. The institution of the ETA-9109, Trade Adjustment Assistance Petition Form; ETA-9109a, Formulario de Solicitud Ayuda Ajuste Comercial, ETA-9110, Company Endorsement Form for Primary Workers (CEFP); ETA-9111, Company Endorsement Form for Secondary Workers (CEFS); ETA-9112, Customer Questionnaire (CQ); ETA-9113, Supporting Company Request (SCOR); ETA-9114, Supporting Customer Request (SCUR); and ETA-9115, Bid Questionnaire (BQ) provides a format for collecting information necessary for the Department to comply with the requirement that it accept petitions for Trade Adjustment Assistance and issue determinations of eligibility in response to those petitions.

Type of Review: New.

Agency: Employment and Training Administration.

Title: Trade Adjustment Assistance Petition Forms.

OMB Number: 1205-0NEW.

Affected Public: Individuals or Households, Businesses or other for-profit/Farms/Federal, State, Local or Tribal Government.

Cite/Reference | Total respondents | Frequency | Total responses | Average time per response | Burden (hours)
ETA 9109 Petition/ETA 9109a Spanish Petition | 4,100 | Occasion | 4,100 | 35 minutes | 2,392
ETA-9110/Company Endorsement Form for Primary Workers (CEFP) | 2,870 | Occasion | 2,870 | 30 minutes | 1,435
ETA 9111/Company Endorsement Form for Secondary Workers (CEFS) | 1,230 | Occasion | 1,230 | 20 minutes | 410
ETA 9112/Customer Questionnaire (CQ)/ETA 9115/Bid Questionnaire (BQ) | 9,840 | Occasion | 9,840 | 15 minutes | 2,460
ETA 9113/Supporting Company Request (SCOR) | 410 | Occasion | 410 | 1 hour | 410
ETA 9114/Supporting Customer Request (SCUR) | 984 | Occasion | 984 | 1 hour | 984
Totals | 19,434 |  | 19,434 |  | 8,091

Total Burden Cost (capital/startup): $0.

Total Burden Cost (operating/maintaining): $0.

Comments submitted in response to this comment request will be summarized and/or included in the request for Office of Management and Budget approval of the information collection request; they will also become a matter of public record.

Dated: June 30, 2003.
Timothy F. Sullivan,
Director, Division of Trade Adjustment Assistance.

[FR Doc. 03-17055 Filed 7-3-03; 8:45 am]

BILLING CODE 4510-30-P